DEPARTMENT OF AGRICULTURE

Agricultural Marketing Service

[Docket No. FV06-33-1NC]

Notice of Request for an Extension of a Currently Approved Information Collection

AGENCY: Agricultural Marketing Service, USDA.

ACTION: Notice and request for comments.

SUMMARY: In accordance with the Paperwork Reduction Act of 1995 (44 U.S.C. Chapter 35), this notice announces the Agricultural Marketing Service's (AMS) intention to request an extension to a currently approved information collection for the Export Fruit Acts covering exports of apples and grapes.

DATES: Comments on this notice must be received by January 30, 2007 to be assured of consideration.

Additional Information or Comments: Contact Valerie L. Emmer-Scott, Marketing Specialist, Marketing Order Administration Branch, Fruit and Vegetable Programs, AMS, USDA, 1400 Independence Avenue, SW., STOP 0237, Washington, DC, 20250-0237; telephone (202) 205-2829 or Fax (202) 720-8938, or e-mail: moab.docketclerk@usda.gov.

Small businesses may request information on this notice by contacting Jay Guerber, Marketing Order Administration Branch, Fruit and Vegetable Programs, AMS, USDA, 1400 Independence Avenue, SW., STOP 0237, Washington, DC, 20250-0237; telephone (202) 720-2491, Fax: (202) 720-8938, or e-mail: Jay.Guerber@usda.gov.

SUPPLEMENTARY INFORMATION: Title: Export Fruit Regulations—Export Apple Act (7 CFR Part 33) and the Export Grape and Plum Act (7 CFR Part 35).

OMB Number: 0581-0143.

Expiration Date of Approval: August 31, 2007.

Type of Request: Extension of a currently approved information collection.

Abstract: Fresh apples and grapes grown in the United States shipped to any foreign destination must meet minimum quality and other requirements established by regulations issued under the Export Apple Act (7 U.S.C. 581-590) and the Export Grape and Plum Act (7 U.S.C. 591-599) (Acts). Currently, plums are not regulated under the Act. The regulations issued under the Export Apple Act cover exports of fresh apples grown in the United States and shipped to foreign destinations. The regulations issued under the Export Grape and Plum Act cover exports of fresh grapes grown in the United States and shipped to foreign destinations, except Canada and Mexico. Certain limited quantity provisions may exempt some shipments and exporters from this information collection. The Secretary of Agriculture is authorized to oversee the implementation of the Acts and issue regulations regarding that activity. The information collection requirements in this request are essential to carry out the intent and administration of the Acts. Both Acts were designed to promote foreign trade in the export of apples, grapes and plums grown in the United States; to protect the reputation of the U.S.-grown commodities; and to prevent deception or misrepresentation of the quality of such products moving in foreign commerce. The Acts have been in effect since 1933 (apples) and 1960 (grapes).

The regulations issued under the Acts (7 CFR 33.11 for apples, and 35.12 for grapes) require that the U.S. Department of Agriculture (USDA) officially inspect and certify that each export shipment of fresh apples and grapes is in compliance with quality and shipping requirements effective under the Acts. Shipments are inspected and certified by Federal or Federal-State Inspection Service (FSIS) inspectors. FSIS is administered by USDA.

The information collection requirements in this request impose the minimum burden necessary to effectively administer the Acts.

The information collection burden for this action is primarily in the form of recordkeeping. Export Form Certificates (certificates) issued by Federal or FSIS inspectors are used to facilitate the export process. The certificates are not completed by the exporters or carriers and are not filed with USDA. The certificates are retained by each exporter, and third party carrier which ships the commodity, to verify their compliance with the Acts. There are an estimated 80 exporters of apples and grapes and an estimated 20 carriers which transport those shipments. Pursuant to the Acts, exporters and carriers must retain inspection certificates for three (3) years.

Estimate of Burden: Public reporting burden for this collection of information is estimated to average .25 hours per response.

Recordkeepers: Apple and grape exporters and carriers.

Estimated Number of Recordkeepers: 100.

Estimated Number of Responses per Respondent: 1.

Estimated Total Annual Burden on Respondents: 25 hours. Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

Comments may be sent to Docket Clerk, Fruit and Vegetable Programs, AMS, USDA, 1400 Independence Avenue, SW., STOP 0237, Washington, DC 20250-0237; Fax: (202) 720-8938; or e-mail: moab.docketclerk@usda.gov. Comments should reference the docket number and the date and page number of this issue of the Federal Register. All comments received will be available for public inspection during regular business hours at the same address, or can be viewed at: http://www.ams.usda.gov/fv/moab.html. All responses to this notice will be summarized and included in the request for OMB approval. All comments will become a matter of public record.

Dated: November 28, 2006.
Lloyd C. Day,
Administrator, Agricultural Marketing Service.

[FR Doc. E6-20395 Filed 11-30-06; 8:45 am]

BILLING CODE 3410-02-P